DEPARTMENT OF THE INTERIOR

National Park Service

[NPS-WASO-NAGPRA-NPS0039021; PPWOCRADN0-PCU00RP14.R50000]

Notice of Intended Repatriation: Evansville Museum of Arts, History & Science, Evansville, IN

AGENCY: National Park Service, Interior.

ACTION: Notice.

SUMMARY: In accordance with the Native American Graves Protection and Repatriation Act (NAGPRA), the Evansville Museum of Arts, History & Science intends to repatriate a certain cultural item that meets the definition of an object of cultural patrimony and that has a cultural affiliation with the Indian Tribes or Native Hawaiian organizations in this notice.

DATES: Repatriation of the cultural item in this notice may occur on or after December 16, 2024.

ADDRESSES: Kaman Hillenburg, Evansville Museum of Arts, History & Science, Evansville, IN 47713, telephone (812) 425-2406, email kaman@emuseum.org.

SUPPLEMENTARY INFORMATION: This notice is published as part of the National Park Service's administrative responsibilities under NAGPRA. The determinations in this notice are the sole responsibility of the Evansville Museum of Arts, History & Science, and additional information on the determinations in this notice, including the results of consultation, can be found in the summary or related records. The National Park Service is not responsible for the determinations in this notice.

Abstract of Information Available

A total of one cultural item has been requested for repatriation. The one object of cultural patrimony is a Sea Monster hat. The hat is made of red cedar wood with a detachable wooden fin adorned with human hair. The teeth of the Sea Monster are made from abalone shell. The red paint on the hat could contain mercury.

The item was donated to the Evansville Museum of Arts, History & Science by Mrs. Edward Mead Johnson, Sr. in 1936.

Determinations

The Evansville Museum of Arts, History & Science has determined that:

• The one object of cultural patrimony described in this notice has an ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Ketchikan Indian Community.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after December 16, 2024. If competing requests for repatriation are received, the Evansville Museum of Arts, History & Science must determine the most appropriate requestor prior to repatriation. Requests for joint repatriation of the cultural item are considered a single request and not competing requests. The Evansville Museum of Arts, History & Science is responsible for sending a copy of this notice to the Indian Tribes and Native Hawaiian organizations identified in this notice and to any other consulting parties.

Authority: Native American Graves Protection and Repatriation Act, 25 U.S.C. 3004 and the implementing regulations, 43 CFR 10.9.

Dated: November 5, 2024.
Melanie O'Brien,
Manager, National NAGPRA Program.

[FR Doc. 2024-26452 Filed 11-13-24; 8:45 am]

BILLING CODE 4312-52-P